DEPARTMENT OF TRANSPORTATION

Federal Aviation Administration

[Docket No. FAA-2019-0961; Notice of Availability Docket No. 19-AEA-20]

FAA Notice of Preparation of an Environmental Assessment for the Proposed Teterboro (TEB) Area Navigation (RNAV) Global Positioning System (GPS) Runway (RWY) 19 Offset Procedure at Teterboro Airport, NJ

AGENCY: Federal Aviation Administration (FAA), Department of Transportation (DOT).

ACTION: Notice of Preparation of an Environmental Assessment (EA) and associated public workshop.

SUMMARY: The FAA, Eastern Service Area, is issuing this notice to advise the public that the FAA has initiated preparation of an environmental assessment (EA) that will analyze and discuss the potential environmental impacts resulting from publishing and implementing a new approach procedure to TEB, the TEB RNAV (GPS) RWY 19 Offset (Proposed Project).

FOR FURTHER INFORMATION CONTACT: Mr. Ryan W. Almasy, Federal Aviation Administration, Operations Support Group, Eastern Service Center, 1701 Columbia Avenue, College Park, Georgia 30337, (404) 305-5601 or https://www.faa.gov/air_traffic/community_involvement/.

SUPPLEMENTARY INFORMATION: The EA will include the requisite analyses to evaluate the potential environmental impacts of the Proposed Project within the defined study area. During development of a draft and final EA, FAA will be coordinating with federal, state and local agencies, as well as the public, to obtain comments and input regarding the EA for the Proposed Project. The EA will assess potential impacts of the proposed alternative and a no action alternative pursuant to the National Environmental Policy Act (NEPA); FAA Order 1050.1F, Policies and Procedures for Considering Environmental Impacts; and, the President's Council on Environmental Quality (CEQ) Regulations, implementing the provisions of NEPA, applicable special purpose and all other applicable laws, regulations, and requirements.

The FAA intends to conduct a public workshop subsequent to the publication of the Draft EA. The FAA will provide the public with a Notice of Availability of the Draft EA, the locations where the Draft EA will be available, as well as the date, time and location of the public workshop. The Notice of Availability will also provide the dates comprising the 30-day public comment period on the Draft EA and the FAA point of contact to whom comments should be submitted. For more information regarding the public workshop meeting see the project website at: https://www.faa.gov/air_traffic/community_involvement/.

Issued in College Park, Georgia, on November 21, 2019.
Ryan Almasy,
Manager, Operations Support Group, Eastern Service Center, Air Traffic Organization.

[FR Doc. 2019-25899 Filed 11-27-19; 8:45 am]

BILLING CODE 4910-13-P